DEPARTMENT OF ENERGY

Federal Energy Regulatory Commission

[Docket No. EL02-15-000]

California Independent System Operator Corporation, California Electricity Oversight Board, Public Utilities Commission of the State of California, Pacific Gas and Electric Company, San Diego Gas & Electric Company, and Southern California Edison Company, Complainants, v. Cabrillo Power I LLC, Cabrillo Power II LLC, Duke Energy South Bay, LLC, Geysers Power Company, LLC, and Williams Energy Marketing and Trading Company, Respondents; Notice of Complaint

November 7, 2001.

Take notice that on November 2, 2001, the California Independent System Operator Corporation (the ISO), the California Electricity Oversight Board, the Public Utilities Commission of the State of California, Pacific Gas and Electric Company, San Diego Gas & Electric Company, and Southern California Edison Company submitted a complaint pursuant to section 206 of the Federal Power Act, 16 U.S.C. 824e, against Cabrillo Power I LLC, Cabrillo Power II LLC, Duke Energy South Bay, LLC, Geysers Power Company, LLC, and Williams Energy Marketing and Trading Company alleging that certain rates, referred to as the Fixed Option Payments, in the respective reliability must run (RMR) contracts between the ISO and respondents are unjust and unreasonable.

Complainants allege that the currently effective Fixed Option Payments were set by a series of settlements in 1999 and 2000, that covered all RMR units except those owned by Mirant Energy Delta, LLC and Mirant Energy Potrero, LLC. In an initial decision in Docket No. ER98-495-000, issued June 7, 2000, the complainants allege, the Presiding Administrative Law Judge adopted the “net incremental cost” method for calculating the Fixed Option Payment. Claimants assert that the same method, applied to the respondents' RMR units, would yield Fixed Option Payments lower than those currently in effect. Complainants ask that the Commission institute an investigation, set a refund date of January 1, 2002, and defer further action pending its decision on exceptions in Docket No. ER98-495-000.

Copies of the complaint were served on respondents and on other interested parties.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before November 23, 2001. Protests will be considered by the Commission in determining the appropriate action to be taken, but will not serve to make protestants parties to the proceeding. Any person wishing to become a party must file a motion to intervene. Answers to the complaint shall also be due on or before November 23, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-28465 Filed 11-13-01; 8:45 am]

BILLING CODE 6717-01-P